DEPARTMENT OF STATE

[Public Notice 5567]

Establishment of the Advisory Committee on Democracy Promotion

SUMMARY: The Advisory Committee on Democracy Promotion was established in March 2006 to advise the Secretary of State and the Administrator of the U.S. Agency for International Development on the consideration of issues related to democracy promotion in the formulation and implementation of U.S. foreign policy and foreign assistance.

The Secretary of State will appoint the members of the committee, which will consist of up to 20 non-government members. The committee will follow the procedures prescribed by the Federal Advisory Committee Act (FACA). Meetings will be open to the public unless a determination is made in accordance with the FACA Section 10(d) and 5 U.S.C. 522b(c)(1) and (4) that a meeting or a portion of the meeting should be closed to the public. Notice of each meeting will be provided in the Federal Register at least 15 days prior to the meeting date.

For further information, contact Nicole Bibbins Sedaca, Senior Director of Strategic Planning and External Affairs, Bureau of Democracy, Human Rights, and Labor at (202) 647-3904.

Dated: October 11, 2006.
Barry Lowenkron,
Assistant Secretary of the Bureau of Democracy, Human Rights, and Labor, Department of State.

[FR Doc. E6-17338 Filed 10-17-06; 8:45 am]

BILLING CODE 4710-18-P